DEPARTMENT OF THE INTERIOR

Fish and Wildlife Service

[FWS-R4-R-2011-N054; 40136-1265-0000-S3]

Atchafalaya National Wildlife Refuge, LA; Draft Comprehensive Conservation Plan and Environmental Assessment

AGENCY: Fish and Wildlife Service, Interior.

ACTION: Notice of availability; request for comments.

SUMMARY: We, the Fish and Wildlife Service (Service), announce the availability of a draft comprehensive conservation plan and environmental assessment (Draft CCP/EA) for Atchafalaya National Wildlife Refuge (NWR) in St. Martin and Iberville Parishes, Louisiana, for public review and comment. In this Draft CCP/EA, we describe the alternative we propose to use to manage this refuge for the 15 years following approval of the final CCP.

DATES: To ensure consideration, we must receive your written comments by June 23, 2011.

ADDRESSES: You may obtain a copy of the Draft CCP/EA by contacting Ms. Tina Chouinard, via U.S. mail at Fish and Wildlife Service, 3006 Dinkins Lane, Paris, TN 38242, or via e-mail at tina_chouinard@fws.gov. Alternatively, you may download the document from our Internet Site at http://southeast.fws.gov/planning under “Draft Documents.” Comments on the Draft CCP/EA may be submitted to the above postal address or e-mail address.

FOR FURTHER INFORMATION CONTACT: Ms. Tina Chouinard, at 731/432-0981 (telephone).

SUPPLEMENTARY INFORMATION:

Introduction

With this notice, we continue the CCP process for Atchafalaya NWR. We started the process through a Federal Register notice on January 9, 2009 (74 FR 915). For more about the refuge and our CCP process, please see that notice.

Atchafalaya NWR is one of eight refuges managed as part of the Southeast Louisiana National Wildlife Refuge Complex (Complex). Atchafalaya NWR is in the lower Atchafalaya Basin Floodway System in Louisiana. Atchafalaya NWR is bounded on the north by U.S. Highway 190, on the south by Interstate 10, on the west by the Atchafalaya River, and on the east by the East Atchafalaya Basin Protection Levee.

Atchafalaya NWR was established in 1986, when 15,255 acres were purchased from the Iberville Land Company. The Louisiana Department of Wildlife and Fisheries (LDWF) and the U.S. Army Corps of Engineers (USACE) have also purchased fee title lands adjacent to and within the Atchafalaya NWR, bringing the total to approximately 44,000 acres. The USACE has authority to purchase additional lands within the Atchafalaya Basin Floodway System.

Approximately 12 percent of the refuge is inundated open water, with isolated cypress trees and willow stands. Bottomland hardwood forest is the primary habitat.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Significant issues addressed in this Draft CCP/EA include: (1) Forest management; (2) biological inventorying and monitoring; (3) land protection; (4) oil and gas operations; (5) enhancing wildlife-dependent public use; and (6) increasing permanent staff.

CCP Alternatives, Including Our Proposed Alternative

We developed three alternatives for managing the refuge and chose Alternative B as the proposed alternative. A full description of each alternative is in the Draft CCP/EA. We summarize each alternative below.

Alternative A—Current Management (No Action)

This alternative is required by the National Environmental Policy Act (NEPA) and is the “no-action” or “status quo” alternative, in which we would not initiate major management changes. This alternative also provides a baseline to compare the current habitat, wildlife, and public use management to the two action alternatives.

Alternative A continues current management strategies, with little or no change in budgeting or funding. We would continue to focus on maintaining the biological integrity of the refuge's habitats. Under this alternative, we would protect and maintain all refuge lands, primarily focusing on the needs of threatened and endangered species, with additional emphasis on the needs of migratory birds and resident wildlife.

Conservation of federally listed threatened and endangered species would be continued through current habitat management and monitoring programs, to be accomplished primarily through established partnership and research projects.

Current management of migratory birds would continue to provide suitable habitat for waterfowl, contributing to the objective of the North American Waterfowl Management Plan. The current levels of surveying, monitoring, and managing of migratory and resident birds would continue. We would also continue to provide for their basic needs of feeding, resting, and breeding.

Mostly opportunistic monitoring and management of resident wildlife would occur under this alternative. Only current refuge wildlife management programs would continue to be maintained, and since little baseline biological information would be gathered on non-managed species or groups of species, new management activities would be unlikely.

The Complex would continue habitat management of existing greentree reservoirs, wetlands, open waters, forested habitats, scrub/shrub habitats, grasslands, and open lands. All impoundments, levees, moist-soil units, and water control structures would continue to be maintained to provide critical habitat for threatened and endangered species, waterfowl, and wetland-dependent birds. Current water quality information would be addressed on an as-needed basis and would continue to be limited. All other habitat management programs would remain unchanged.

Control of invasive and exotic plant species would continue on an opportunistic basis as resources permit. This limited control would be performed by chemical and/or mechanical means. Additionally, efforts to control/remove invasive, exotic, or nuisance wildlife would continue. These species tend to procreate rapidly and can be especially destructive to habitats. Control would continue to be implemented by the take of these animals as part of the hunting program and on an opportunistic basis by staff.

We would maintain the current levels of wildlife-dependent recreation activities (i.e., hunting, fishing, wildlife observation, wildlife photography, and environmental education and interpretation) and facilities.

Hunting opportunities on refuge lands are managed by LDWF as part of the Sherburne Wildlife Management Area (WMA) and would continue. Due to the complex boundaries and multi-ownership, all hunting and fishing regulations are set by LDWF as part of a cooperative management agreement and fall under the rules and regulations of Sherburne WMA. This offers less confusion to the visiting public and also makes it easier to enforce laws.

The refuge is open year round for sport fishing in accordance with State fishing regulations. Fishermen frequent Big Alabama Bayou and some of the smaller waters of the Complex. Recreational crawfishing is allowed on the refuge. The Complex maintains four boat launching facilities, with parking areas that provide bayou access. There is also a designated pier for fishing.

Law enforcement would continue at the current level, with emphasis on resource protection and public safety. We would continue to share five staff members: Refuge manager, forester, biologist, park ranger (public use specialist), and law enforcement officer.

Alternative B—Optimize Biological and Visitor Services (Proposed Alternative)

We selected Alternative B as the proposed alternative, because we believe it best signifies the vision, goals, and purposes of the refuge. Additionally, this alternative was developed based on public input and the best professional judgment of the planning team. Under Alternative B, our emphasis would be on restoring and improving refuge resources needed for wildlife and habitat management and providing enhanced appropriate and compatible wildlife-dependent public use opportunities, while addressing key issues and refuge mandates.

This alternative would focus on augmenting wildlife and habitat management to identify, conserve, and restore populations of native fish and wildlife species, with an emphasis on migratory birds and threatened and endangered species. This objective would partially be accomplished by increased monitoring of waterfowl, other migratory and resident birds, and endemic species, in order to assess and adapt management strategies and actions. Additionally, information gaps would be addressed by the initiation of baseline surveying, periodic monitoring, and, ultimately, the addition of adaptive habitat management.

Habitat management programs for impoundments, greentree reservoirs, wetlands, open waters, forested habitats, scrub/shrub habitats, grasslands, and open lands would be reevaluated, and step-down management plans would be developed to meet the foraging, nesting, and breeding requirements of priority species. Additionally, monitoring and adaptive habitat management would be implemented to potentially counteract the impacts associated with long-term climate change and sea-level rise.

The control of invasive, exotic, and/or nuisance wildlife and plant species would be more aggressively managed by implementing a management plan, completing a baseline inventory, supporting research, and controlling with strategic mechanical and chemical means.

Alternative B enhances visitor service opportunities by: (1) Improving the quality of fishing opportunities; (2) implementing an environmental education program component that utilizes volunteers and local schools as partners; (3) enhancing wildlife viewing and photography opportunities by implementing blinds, a swamp trail boardwalk, and additional observational areas; (4) developing and implementing a visitor services management plan, working with partners to develop a Complex visitor center, including a law enforcement office and maintenance facility with an attached visitors' contact station; and (5) enhancing personal interpretive and outreach opportunities. Volunteer programs and friends groups also would be expanded to enhance all aspects of management and to increase resource availability.

In addition to the enforcement of all Federal and State laws applicable to the refuge to protect archaeological and historical sites, we would identify and develop a plan to protect all known sites. The development of an onsite office for law enforcement officers would not only better provide security for these resources, but would also ensure visitor safety and public compliance with refuge regulations.

Land acquisitions within the approved acquisition boundary would be based on the importance of the habitat for wildlife, management, and access. Administrative plans would stress the need for increased maintenance of existing infrastructure and construction of new facilities. Funding for new construction projects would be balanced between habitat management and public-use needs. Additional staff would include: Visitor services specialist, assistant manager, biological technician, forestry technician, maintenance worker, and law enforcement officer. The increased budget and staff levels would better enable us to meet the obligations of wildlife stewardship, habitat management, and public use.

Alternative C—Maximize Public Use

Active management of refuge resources would be employed under this alternative to optimize public use opportunities. Staff and resources would be dedicated to increasing the public-use activities of hunting, fishing, wildlife observation, wildlife photography, and environmental education and interpretation. All purposes of the refuge and mandated monitoring of Federal trust species and archaeological resources would continue, but other wildlife management would be dependent on public interests.

We would prioritize habitat management of species of public interest. Wetlands, the greentree reservoirs, and moist-soil units would be maintained to facilitate public use opportunities, such as fishing and canoeing. Forest habitat in high public use areas would be managed, while all other areas would have little management intervention. Forest opening demonstration sites would be implemented to serve as educational opportunities for public and private land managers. The control of invasive and exotic plant species would be more aggressively managed in public use areas.

Increased wildlife observation, wildlife photography, and interpretation opportunities would result from the construction of an on-site Complex visitor center, boardwalk, canoe and birding tours, kiosks, and trail signs. Additionally, waterfowl and wildlife monitoring would be conducted periodically to identify areas of high use for the visiting public to observe. Environmental education would be expanded by addressing a wide range of local environmental concerns and would be offered to a broader range of student groups and schools through teacher workshops. A new on-site environmental education facility would be developed to better facilitate the new programs and workshops. New information brochures, tear sheets, and website postings would be published to increase public outreach and to promote public use and recreational opportunities.

Land acquisitions within the approved acquisition boundary would be based on the importance of the habitat for public use. Administration plans would stress the need for increased maintenance of existing infrastructure and construction of new facilities that would benefit public use activities. Additional funding would be needed to maintain the maximum number of trails and roads for access and to provide full-time staff and new facilities to support expanded public use activities.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997, Public Law 105-57.

Dated: April 6, 2011.
Mark J. Musaus,
Acting Regional Director.

[FR Doc. 2011-12698 Filed 5-23-11; 8:45 am]

BILLING CODE 4310-55-P